DEPARTMENT OF THE TREASURY

Submission for OMB Review; Comment Request

July 18, 2008.

The Department of the Treasury will submit the following public information collection requirement(s) to OMB for review and clearance under the Paperwork Reduction Act of 1995, Public Law 104-13 after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 25, 2008 to be assured of consideration.

Executive Office of Asset Forfeiture

OMB Number: 1505-0152.

Type of Review: Extension.

Title: Request for Transfer of Property Seized/Forfeited by a Treasury Agency.

Form: TD 92-22.46.

Description: Form TD F 92-22.46 is necessary for the application for receipt of seized assets by Federal, State and Local Law Enforcement agencies.

Respondents: State and local governments

Estimated Total Reporting Burden: 2,500 hours.

Clearance Officer: Office of Domestic Finance, (202) 622-1276, Department of the Treasury, 1500 Pennsylvania Avenue, NW., Rm 5205, Washington, DC 20220.

OMB Reviewer: Alexander T. Hunt, (202) 395-7316, Office of Management and Budget, Room 10235, New Executive Office Building, Washington, DC 20503.

Robert Dahl,
Treasury PRA Clearance Officer.

[FR Doc. E8-16958 Filed 7-23-08; 8:45 am]

BILLING CODE 4810-25-P